FEDERAL COMMUNICATIONS COMMISSION

Notice of Public Information Collection(s) Being Reviewed by the Federal Communications Commission, Comments Requested

September 28, 2004.

Summary: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

Dates: Written Paperwork Reduction Act (PRA) comments should be submitted on or before December 6, 2004. If you anticipate that you will be submitting comments, but find it difficult to do so within the period of time allowed by this notice, you should advise the contact listed below as soon as possible.

Addresses: Direct all Paperwork Reduction Act (PRA) comments to Les Smith, Federal Communications Commission, Room 1-A804, 445 12th Street, SW., Washington, DC 20554 or via the Internet to Leslie.Smith@fcc.gov.

For Further Information Contact: For additional information or copies of the information collection(s), contact Les Smith at (202) 418-0217 or via the Internet at Leslie.Smith@fcc.gov.

Supplementary Information:

OMB Control Number: 3060-0171.

Title: Section 73.1125, Station Main Studio Location.

Form Number: N/A.

Type of Review: Revision of a currently approved collection.

Respondents: Business or other for-profit entities.

Number of Respondents: 72.

Estimated Time per Response: 0.5-2 hours.

Frequency of Response: On occasion reporting requirement.

Total Annual Burden: 135 hours.

Total Annual Cost: $87,780.00.

Privacy Impact Assessment: No impact(s).

Needs and Uses: On March 14, 2002, the Commission released an Order, Establishment of the Media Bureau and Other Organizational Changes, DA No. 02-577, the Commission amended 47 CFR 73.1125(d) to reflect the reorganization of the existing Cable Services and Mass Media Bureaus into a new Media Bureau. Section 73.1125(d) requires licensees to receive written authority to locate a main studio outside the locations specified in paragraph (a) or (c) of this rule section for the first time must be obtained from the Audio Division, Media Bureau for AM and FM stations, or the Video Division for TV and Class A television stations before the studio may be moved to that location. Where the main studio is already authorized at a location outside those specified in paragraph (a) or (c) of this rule section, and the licensee or permittee desires to specify a new location also located outside those locations, written authority must also be received from the Commission prior to the relocation of the main studio. Authority for these changes may be requested by filing a letter with an explanation of the proposed changes with the appropriate division. Licensees or permittees should also be aware that the filing of such a letter request does not imply approval of the relocation request, because each request is addressed on a case-by-case basis. Commercial AM, FM, TV or Class A TV licensees or permittees must pay a fee when filing a request letter under 47 CFR 1.1104.

Federal Communications Commission.
Marlene H. Dortch,
Secretary.

[FR Doc. 04-22494 Filed 10-5-04; 8:45 am]

BILLING CODE 6712-10-P